DEPARTMENT OF TRANSPORTATION

Bureau of Transportation Statistics

Grant Program for Research and Development in the Field of Transportation Statistics

AGENCY: Bureau of Transportation Statistics, DOT.

ACTION: Notice; correction.

SUMMARY: On November 20, 2000, the Bureau of Transportation Statistics (BTS) published a Federal Register notice soliciting applications for its Transportation Statistics Research Grants program. The due date for applications listed in that notice was incorrect and this document provides the correct date.

DATES: For BTS to consider your application, we must receive it by January 19, 2001, at 5 p.m. Eastern Standard Time. Applications received after January 19, 2001, will be held for the next cycle, which is anticipated to be every six to twelve months, unless you request in writing that your application be returned.

ADDRESSES: You must send six copies of the application package to the BTS Grants Program, Room 3430, Bureau of Transportation Statistics, US Department of Transportation, 400 Seventh Street, SW., Washington, DC 20590.

FOR FURTHER INFORMATION CONTACT: Promod Chandhok, Office of Statistical Programs and Services, Bureau of Transportation Statistics, Room 3430, 400 Seventh Street, SW., Washington, DC 20590; phone (202) 366-2158; fax: (202) 366-3640; e-mail: promod.chandhok@bts.gov.

SUPPLEMENTARY INFORMATION: In the Federal Register of November 20, 2000, 65 FR 69803, the Bureau published a notice announcing its Transportation Statistics Research Grants program and describing who is eligible to apply, the application process, and how grants will be awarded. However, the notice was published with an incorrect application due date listed in the DATES section. The correct due date is January 19, 2001.

David Banks,
Assistant Director.

[FR Doc. 00-30869 Filed 12-4-00; 8:45 am]

BILLING CODE 4910-FE-P